NATIONAL FOUNDATION ON THE ARTS AND THE HUMANITIES

SES Performance Review Board

AGENCY: National Endowment for the Arts.

ACTION: Notice.

SUMMARY: Notice is hereby given of the names of the members of the Performance Review Board for the National Endowment for the Arts. This notice supersedes all previous notices of the PRB membership for the Agency.

DATES: Upon publication.

FOR FURTHER INFORMATION CONTACT: Craig McCord, Director of Human Resources, National Endowment for the Arts, 1100 Pennsylvania Avenue, NW., Room 627, Washington, DC 20506, (202) 682-5473.

SUPPLEMENTARY INFORMATION: Sec. 4314(c)(1) through (5) of Title 5, U.S.C., requires each agency to establish, in accordance with regulations prescribed by the Office of Personnel Management, one or more SES Performance Review Boards. The Board shall review and evaluate the initial appraisal by the supervisor of a senior executive's performance, along with any response by the senior executive, and make recommendations to the appointing authority relative to the performance of the senior executive.

The following persons have been selected to serve on the Performance Review Board for the National Endowment for the Arts:

Eileen B. Mason, Senior Deputy Chairman.

Laurence M. Baden, Deputy Chairman for Management and Budget.

Patrice Walker Powell, Deputy Chairman for States, Regions, and Local Arts Agencies.

Ann Guthrie Hingston, Director of the Office of Government Affairs.

Michael R. Burke, Chief Information Officer.

Sunil Iyengar, Director of the Office of Research and Analysis.

Kathleen M. Edwards,
Director, Administrative Services Office, National Endowment for the Arts.

[FR Doc. E8-15250 Filed 7-3-08; 8:45 am]

BILLING CODE 7537-01-P